DEPARTMENT OF HEALTH AND HUMAN SERVICES

Centers for Disease Control and Prevention

[60Day-23-1175; Docket No. CDC-2023-0140]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Environmental Public Health Tracking Network (Tracking Network). The Tracking Program is the ongoing collection, integration, analysis, and dissemination of health, exposure, and hazard data designed to drive public health actions that protect the population from harm resulting from exposure to environmental contaminants, and integrates these data from various sources including state and local health departments (SLHD) into the Tracking Network.

DATES: CDC must receive written comments on or before February 21, 2023.

ADDRESSES: You may submit comments, identified by Docket No. CDC-2022-0140 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Environmental Public Health Tracking Network (Tracking Network) (OMB Control No. 0920-1175, Exp. 07/31/2023)—Revision—National Center for Environmental Health (NCEH), Centers for Disease Control and Prevention (CDC).

Background and Brief Description

The CDC is submitting a three-year Paperwork Reduction Act (PRA) revision information collection request (ICR) for Environmental Public Health Tracking Network (Tracking Network) (OMB Control No. 0920-1175, Expiration 07/31/2023). This information collection is sponsored by the Environmental Public Health Tracking Section (Tracking Section), Division of Environmental Health Science and Practice (DEHSP), National Center for Environmental Health (NCEH) at CDC.

In September 2000, the Pew Environmental Health Commission issued a report entitled America's Environmental Health Gap: Why the Country Needs a Nationwide Health Tracking Network. The Commission documented a critical gap in knowledge that hinders our national efforts to reduce or eliminate diseases that might be prevented by better managing environmental factors due largely to the fact that existing environmental health systems were inadequate and fragmented. They described a lack of data for the leading causes of mortality and morbidity, a lack of data on exposure to hazards, a lack of environmental data with applicability to public health, and barriers to integrating and linking existing data. To address this critical gap, the Commission recommended a “Nationwide Health Tracking Network” for disease and exposures. In response to the report and this critical gap, Congress appropriated funds in the fiscal year 2002 budget for the CDC to establish the National Environmental Public Health Tracking Program (Tracking Program) and Network and has appropriated funds each year thereafter to continue this effort.

The Tracking Program includes State and Local Health Departments (SLHD) which collaborate to: (1) build and maintain the Tracking Network; (2) advance the practice and science of environmental public health tracking; (3) communicate information to guide environmental health policies and actions; (4) enhance tracking workforce and infrastructure; and (5) foster collaborations between health and environmental programs. In spring of 2022, under Notice of Funding Opportunity CDC-RFA-EH22-2202, the CDC's Tracking Program funded 33 state and local public health programs (funded SLHDs). These recipients were selected through a competitive objective review process and are managed as CDC cooperative agreements. Awards are for five years and are renewed through an Annual Performance Report (APR)/Continuation Application. The Tracking Program collects data from recipients about their activities and progress for the purposes of program evaluation and monitoring (hereafter referenced as program data).

Environmental public health tracking is the ongoing collection, integration, analysis, and dissemination of health, exposure, and hazard data (hereinafter referenced as Tracking Network data) to inform public health actions that protect the population from harm resulting from exposure to environmental contaminants. The Tracking Network provides data from existing health, exposure, and hazard surveillance systems and supports ongoing efforts within the public health and environmental sectors to improve data collection, accessibility, and dissemination as well as analytic and response capacity. Data that were previously collected for different purposes and stored in separate state and local systems are now available in a nationally standardized format allowing programs to begin bridging the gap between health and the environment.

CDC is requesting approval for an increase of seven additional annual respondents from the 30 approved under the previous ICR and five-year NOFO (CDC-RFA-EH17-1702). In spring of 2022, under the new five-year NOFO (CDC-RFA-EH22-2202), the CDC's Tracking Program funded 33 state and local public health programs (funded SLHD). CDC is now requesting approval for up to 37 annual respondents. This number reflects the current 33 SLHD respondents plus four to allow for future funding of new SLHD or to collect voluntary responses from unfunded SLHD.

Data from recipients or other SLHD are submitted annually following standardized procedures. Tracking network data submitted annually by recipients and other SLHD to the Tracking Program include seven datasets and the metadata form, specifically: (1) birth defects prevalence; (2) childhood blood lead levels; (3) drinking water monitoring; (4) emergency department visits; (5) hospitalizations; (6) radon testing; (7) biomonitoring; and (8) metadata. The Tracking Program will begin using Research Electronic Data Capture (REDCap) for its Electronic Data Capture System (EDCS) needs, which is an easy-to-use, free software tool useful for programmatic deliverable management and data capture. Using an EDCS significantly reduces the burden by optimizing the data capture method to eliminate the need for personnel to complete manual data cleaning and organization before using data for analysis and evaluation upon submission.

CDC is requesting OMB approval for a decrease in the annualized number of responses from 628 to 599 and the annualized time burden from 21,860 to 14,041 hours. There are no costs to respondents other than their time.

Estimated Annualized Burden Hours
Type of respondent | Form name | Number of respondents | Number of responses per respondent | Average burden per response (in hrs.) | Total burden (in hrs.)
State and local health department | Birth Defects Prevalence Form | 30 | 1 | 40 | 1,200
| Childhood Blood Lead Levels Form | 37 | 1 | 40 | 1,480
| Drinking Water Monitoring Form | 37 | 1 | 50 | 1,850
| Emergency Department Visits Form | 37 | 1 | 40 | 1,480
| Hospitalizations Form | 37 | 1 | 40 | 1,480
| Radon Testing Form | 25 | 1 | 50 | 1,250
| Biomonitoring Form | 25 | 1 | 40 | 1,000
| Metadata Records | 37 | 2 | 20 | 1,480
| Environmental Public Health Tracking Work Plan—REDCap | 33 | 1 | 21 | 693
| Program Accomplishments and Public Health Actions Report—REDCap | 33 | 2 | 20 | 1,320
| Performance Measures Report—REDCap | 33 | 1 | 20 | 660
| PHA Impact Follow-up—REDCap | 33 | 2 | 15/60 | 16
| Communications Plan Template | 33 | 1 | 2 | 66
| Web Stats Template | 33 | 2 | 1 | 66
Total |  |  |  |  | 14,041

Jeffrey M. Zirger,
Lead, Information Collection Review Office, Office of Scientific Integrity, Office of Science, Centers for Disease Control and Prevention.

[FR Doc. 2022-27507 Filed 12-19-22; 8:45 am]

BILLING CODE 4163-18-P